DEPARTMENT OF HEALTH AND HUMAN SERVICES

Centers for Disease Control and Prevention

[60Day-06-06AK]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-4766 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Collection of Customer Survey Data Pertaining to the CDC Web site—New—National Center for Health Marketing (NCHM), Centers for Disease Control and Prevention (CDC).

Background and Brief Description

Executive Order 12862 directs agencies that provide significant services directly to the public to survey customers to determine the kind and quality of services they need and their level of satisfaction with existing services. The Centers for Disease Control and Prevention (CDC), National Center for Health Marking (NCHM), seeks to obtain approval to conduct customer satisfaction surveys and usability tests of the CDC Web site, http://www.cdc.gov on an ongoing basis. By collecting customer satisfaction and Web site usability information, CDC will be enabled to serve, and respond to, the ever-changing demands of website users. These users include individuals (patients, educators, students, etc.), interested communities, partners, healthcare providers, and businesses. Survey information will augment current Web content, delivery, and design research which is used to understand the Web user, and more specifically, the CDC user community. Primary objectives are to ensure: (1) CDC's Web site meets its customer needs and (2) the Web site meets the wants, preferences, and needs of its target audiences. Findings will help to: (1) Understand the user community and how to better serve Internet users; (2) discover areas requiring improvement in either content or delivery; (3) determine how to align Web offerings with identified user need(s); and (4) explore methods for offering, presenting and delivering information most effectively. There are no costs to respondents other than their time.

Estimated Annualized Burden Table
Respondents | Number of respondents | Number of responses per respondent | Average burden per response (in hours) | Total annual burden (in hours)
Web site Users | 400,000 | 1 | 6/60 | 40,000

Dated: December 2, 2005.
Joan F. Karr,
Acting Reports Clearance Officer, Centers for Disease Control and Prevention.

[FR Doc. E5-7039 Filed 12-7-05; 8:45 am]

BILLING CODE 4163-18-P